Title 3—

The President

Proclamation 10030 of May 8, 2020

National Charter Schools Week, 2020

By the President of the United States of America

A Proclamation

Nearly 30 years ago, in a small town in southeast Minnesota, freedom-loving Americans on both sides of the political aisle opened the doors to our Nation's first public charter school, enabling families to more effectively choose the best learning environment for their child. This historic action sparked a movement that now spans 44 States, the District of Columbia, Puerto Rico, and Guam. There are currently more than 7,400 public charter schools providing individualized education and learning opportunities to more than 3 million students and their families throughout our Nation. During National Charter School Week, we recognize the contributions of public charter school leaders, teachers, students, and parents and reaffirm our commitment to further expand access to public charter schools and all high-quality education opportunities throughout our Nation.

Every American family should have the right to choose the learning environment that works best for their child. Despite this, for decades the idea that all children can thrive under a one-size-fits-all approach to learning has defined American education. This antiquated and monolithic model leaves far too many of our Nation's young people trapped in a learning environment that does not meet their individual needs. Public charter schools ensure individual choice and empower students to fulfil their potential. These important educational options also disproportionately serve low-income students and students of color, and have a proven track record of serving these children better than neighboring public schools.

Although public charter school enrollment has increased at least eightfold in the past 18 years, there are currently more than 1 million students still on waitlists throughout the country. My Administration remains committed to ensuring these children are able to receive the best education possible by expanding access to alternative education options. Since my first day in office, I have championed school choice and education freedom for every American student, acknowledging that a family's zip code or socioeconomic status should not determine a child's future. My Administration has invested nearly $1.5 billion in the development of public charter schools, while also taking action to restore local control over education and expand access to high-quality education opportunities. Together, we are empowering students and families to be able to access learning environments that meet their unique needs.

This week, public charter schools, families, and supporters will share inspirational stories of success, recognize leaders in the charter sector, and build awareness of the unique public charter school model that offers flexibility to try different instructional methods while being accountable for student achievement and outcomes. During National Charter Schools Week, and every week, let us celebrate the extraordinary work of public charter schools in advancing education freedom, excellence, and innovative approaches to learning. By continuing to support public charter schools and students, we will give power back to families and build a brighter future for all Americans.

NOW, THEREFORE, I, DONALD J. TRUMP, President of the United States of America, by virtue of the authority vested in me by the Constitution and the laws of the United States, do hereby proclaim May 10 through May 16, 2020, as National Charter Schools Week. I commend our Nation's successful public charter schools, teachers, and administrators, and I call on States and communities to help students and empower parents and families by supporting high-quality charter schools as an important school choice option.

IN WITNESS WHEREOF, I have hereunto set my hand this eighth day of May, in the year of our Lord two thousand twenty, and of the Independence of the United States of America the two hundred and forty-fourth.

[FR Doc. 2020-10424

Filed 5-12-20; 11:15 am]

Billing code 3295-F0-P